ENVIRONMENTAL PROTECTION AGENCY

[FRL 6974-8]

Science Advisory Board; Notification of Public Advisory Committee Meeting

SUMMARY: Pursuant to the Federal Advisory Committee Act, Public Law 92-463, notice is hereby given that the Joint Subcommittee on Industrial Ecology and Environmental Systems Management (the “Subcommittee”) of the EPA Science Advisory Board's (SAB) Environmental Engineering Committee will conduct a public teleconference meeting on Tuesday, May 22, 2001 from 1:00-3:00 pm Eastern Time.

The conference call meeting will be coordinated through a conference call connection in room 6450C Ariel Rios Federal Building (North—6th Floor), U.S. Environmental Protection Agency, 1200 Pennsylvania Avenue NW, Washington, DC 20004 (adjacent to the Federal Triangle Metro Station). The public is strongly encouraged to attend the meeting through a telephonic link, but may attend physically if arrangements are made in advance with the SAB staff. In both cases, arrangements should be made with the SAB staff by noon the Wednesday before the meeting. Staff may not be able to accommodate the presence of people who appear in person without advance notice. Additional instructions about how to participate in the conference call can be obtained by calling Ms. Mary Winston (see below).

Purpose of the Meeting

The Subcommittee is preparing a commentary on industrial ecology as announced in 66 FR 10496, February 15, 2001. The Subcommittee was not able to complete its work during its previous conference call (April 18, 2001) and is scheduling this additional call to discuss the third draft of its commentary.

Availability of the Written Materials in Advance of the Conference Call Meeting

Any written materials prepared by the Subcommittee in advance of the conference call will be posted on the SAB Website (http://www.epa.gov/sab). Any other materials, such as written public comment on the previous (second) draft commentary will be made available to the public on request by e-mail before the meeting. For e-mail copies, please contact Ms. Kathleen White Conway (see below). A limited number of paper copies will be available from Ms. Mary Winston (see below).

FOR FURTHER INFORMATION CONTACT: Any member of the public wishing further information concerning the conference call meeting or wishing to submit brief oral comments must contact Ms. Kathleen White Conway, Designated Federal Officer, US EPA Science Advisory Board (1400A), Committee Operations Staff, Ariel Rios Federal Building, 1200 Pennsylvania Avenue, NW, Washington, DC 20460; telephone: (202) 564-4559; Fax: (202) 501-0582; or via e-mail at conway.kathleen@epa.gov. Requests for oral comments must be in writing (e-mail, fax or mail) and received by Ms. Conway no later than noon Eastern Time one week prior to the meeting.

Information on attending the teleconference via phone or in person can be obtained from Ms. Mary Winston, Management Assistant, US EPA Science Advisory Board (1400A), Committee Operations Staff, 1200 Pennsylvania Avenue, NW, Washington, DC 20460, telephone: (202) 564-4538; Fax: (202) 501-0582; or via e-mail at: winston.mary@epa.gov.

Providing Oral or Written Comments at SAB Meetings

It is the policy of the Science Advisory Board to accept written public comments of any length, and to accommodate oral public comments whenever possible. The Science Advisory Board expects that public statements presented at its meetings will not be repetitive of previously submitted oral or written statements. Oral Comments: For teleconference meetings, opportunities for oral comment will usually be limited to no more than three minutes per speaker and no more than fifteen minutes total. Deadlines for getting on the public speaker list for a meeting are given above. Speakers should both e-mail their comments to the DFO in MSWord and WordPerfect formats (suitable for IBM-PC/Windows 95/98) and provide 5 paper copies of their comments and presentation slides for distribution to the reviewers and public at the meeting. Written Comments: Although the SAB accepts written comments until the date of the meeting (unless otherwise stated), because this is a conference call meeting, any comments to be mailed to the Subcommittee in advance of the meeting should be received in the SAB Staff Office by noon at least a week before the meeting. E-mailed comments will be accepted until the day before the meeting, although earlier submission is encouraged; these should be sent in both MSWord and WordPerfect format (suitable for IBM-PC/Windows 95/98).

General Information

Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact Ms. Winston at least five business days prior to the meeting so that appropriate arrangements can be made.

Dated: April 20, 2001.
Donald G. Barnes,
Staff Director, Science Advisory Board.

[FR Doc. 01-11283 Filed 5-3-01; 8:45 am]

BILLING CODE 6560-50-P